DEPARTMENT OF LABOR

Office of Workers' Compensation Programs

Division of Coal Mine Workers' Compensation; Proposed Extension of Existing Collection; Comment Request

ACTION: Notice.

SUMMARY: The Department of Labor (DOL) is soliciting comments concerning a proposed extension for the authority to conduct the information collection request (ICR) titled, “Application for Approval of a Representative's fee in Black Lung Claim Proceedings Conducted by U.S. Department of Labor.” This comment request is part of continuing Departmental efforts to reduce paperwork and respondent burden in accordance with the Paperwork Reduction Act of 1995 (PRA).

DATES: Consideration will be given to all written comments received by March 30, 2020.

ADDRESSES: A copy of this ICR with applicable supporting documentation, including a description of the likely respondents, proposed frequency of response, and estimated total burden, may be obtained free by contacting Anjanette Suggs by telephone at 202-354-9660 or by email at suggs.anjanette@dol.gov.

Submit written comments about this ICR by mail or courier to the U.S. Department of Labor, Office of Workers' Compensation Program, Room S3323, 200 Constitution Avenue NW, Washington, DC 20210; or by email at suggs.anjanette@dol.gov.

FOR FURTHER INFORMATION CONTACT: Anjanette Suggs by telephone at 202-354-9660 or by email at suggs.anjanette@dol.gov.

SUPPLEMENTARY INFORMATION: The DOL, as part of continuing efforts to reduce paperwork and respondent burden, conducts a pre-clearance consultation program to provide the general public and Federal agencies an opportunity to comment on proposed and/or continuing collections of information before submitting them to the OMB for final approval. This program helps to ensure requested data can be provided in the desired format, reporting burden (time and financial resources) is minimized, collection instruments are clearly understood, and the impact of collection requirements can be properly assessed.

The authorized representative of a black lung claimant whose claim for benefits has been approved uses a CM-972 to claim a fee for their services. The completed form is filed with and evaluated by the district director, administrative law judge, or appropriate appellate tribunal before whom the claimed services were performed, and a fee amount is determined. The regulations (20 CFR 725.366) set forth specific requirements for the items of information that must be included on fee applications. The CM-972 was designed to collect this information.

This information collection is subject to the PRA. A Federal agency generally cannot conduct or sponsor a collection of information, and the public is generally not required to respond to an information collection, unless the OMB under the PRA approves it and the collection displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Written comments will receive consideration, and summarized and included in the request for OMB approval of the final ICR. In order to help ensure appropriate consideration, comments should mention 1240-0011.

Submitted comments will also be a matter of public record for this ICR and may be posted on the internet, without redaction. The DOL encourages commenters not to include personally identifiable information, confidential business data, or other sensitive statements/information in any comments.

The DOL is particularly interested in comments that:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected; and

• Minimize the burden of the collection of information on those who are to respond, including through the use of appropriate automated, electronic, mechanical, or other technological collection techniques or other forms of information technology, e.g., permitting electronic submission of responses.

Agency: DOL-OWCP-DCMWC.

Type of Review: Extension.

Title of Collection: Application for Approval of a Representative's Fee in Black Lung Claim Proceedings Conducted by the U.S. Department of Labor.

Form: CM-972.

OMB Control Number: 1240-0011.

Affected Public: Business or other for-profit.

Estimated Number of Respondents: 944.

Frequency: On occasion.

Total Estimated Annual Responses: 944.

Estimated Average Time per Response: 42 minutes.

Estimated Total Annual Burden Hours: 661 hours.

Total Estimated Annual Other Cost Burden: $22,699.00.

(Authority: 44 U.S.C. 3506(c)(2)(A))

Dated: January 6, 2020.
Anjanette Suggs,
Agency Clearance Officer.

BILLING CODE 4510-CK-P

[FR Doc. 2020-01376 Filed 1-27-20; 8:45 am]

BILLING CODE 4510-CK-C